DEPARTMENT OF THE INTERIOR

National Park Service

[NPS-PWR-PWRO-11822; PPWODIRED0]

Designation of Potential Wilderness as Wilderness, Point Reyes National Seashore

AGENCY: National Park Service, Interior.

ACTION: Notice.

SUMMARY: This notice informs the public that all uses in Point Reyes National Seashore that are prohibited by the Wilderness Act (Pub. L. 88-577) have ceased and certain Federal lands that were previously designated as potential wilderness are, upon publication of this notice, designated as wilderness.

DATES: The designation is effective December 4, 2012.

SUPPLEMENTARY INFORMATION: Public Law 94-567, approved October 20, 1976, designated 25,370 acres in Point Reyes National Seashore as wilderness and further identified 8,003 acres as potential wilderness additions in maps entitled “Wilderness Plan, Point Reyes National Seashore”, numbered 612-90,000-B and dated September 1976. The maps showing the wilderness area and potential wilderness additions are on file at the headquarters of Point Reyes National Seashore, Point Reyes Station, CA 94956. Although Section 1 of Public Law 94-567 identified the number of acres of wilderness and potential wilderness, the maps filed with the committee as required under Section 2 of the legislation confirms that the actual acreage of the lands and waters was 24,200 acres of wilderness and 8,530 acres of potential wilderness.

Section 3 of Public Law 94-567 provided a process whereby potential wilderness additions within the Point Reyes National Seashore would convert to designated wilderness upon publication in the Federal Register of a notice that all uses of the land prohibited by the Wilderness Act (Pub. L. 88-577) have ceased. On November 18, 1999, a notice was published in the Federal Register that 1,752 acres of potential wilderness had converted to designated wilderness as a result of the cessation of prohibited uses. 64 FR 63057.

Public Law 94-567 identified much of Drakes Estero as potential wilderness, and not as designated wilderness, due to the presence of a commercial shellfish operation in the estero. The authorizations for the commercial shellfish business operating in Drakes Estero expire on November 30, 2012. Accordingly, all uses prohibited under the Wilderness Act within Drakes Estero have ceased as of 11:59 p.m. on November 30, 2012. Drakes Estero is entirely in federal ownership. Pursuant to Section 3 of Public Law 94-567, publication of this notice hereby effects the change in status of 1,363 acres of Drakes Estero, more or less, from potential wilderness to designated wilderness. A map showing this change is on file at the headquarters of Point Reyes National Seashore, Point Reyes Station, CA 94956.

With publication of this notice, the total designated wilderness within Point Reyes National Seashore encompasses 27,315 acres, more or less. The potential wilderness remaining within the national seashore consists of 5,415 acres, more or less. The remaining potential wilderness will remain as such until publication of a notice that uses conflicting with the provisions of the Wilderness Act have ceased.

Note that the total wilderness acreage cited in the November 18, 1999, notice was based on the acreage reported in Section 1 of Public Law 94-567. The total wilderness acreage cited in this notice is based on the maps filed with the committee under Section 2 of Public Law 94-567 and the May 1978 survey of the Point Reyes Wilderness. The National Park Service believes that the acreage calculation based on the maps and survey is more accurate than the acreage reported in Section 1 of the Act.

Note further that in Public Law 99-68, approved on July 1985, Congress designated that the wilderness area of Point Reyes National Seashore was to be known as the “Phillip Burton Wilderness.” Drakes Estero is hereby added to the Phillip Burton Wilderness.

Dated: November 30, 2012.
Jonathan B. Jarvis,
Director, National Park Service.

[FR Doc. 2012-29381 Filed 12-3-12; 8:45 am]

BILLING CODE 4312-FF-P